DEPARTMENT OF THE INTERIOR

Fish and Wildlife Service

Endangered Species Recovery Permits

AGENCY: Fish and Wildlife Service, Interior.

ACTION: Notice of availability and receipt of applications.

SUMMARY: We announce our receipt of applications to conduct certain activities pertaining to enhancement of survival of endangered species.

DATES: Written comments on these permit applications must be received by July 13, 2006.

ADDRESSES: Written data or comments should be submitted to the Assistant Regional Director, Fisheries and Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 20 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Permit No. TE-067729

Applicant: Keith Gido, Kansas State University, Division of Biology, Manhattan, Kansas

The applicant requests a permit amendment to add fin clipping on Colorado pikeminnow (Ptychocheilus lucius) in conjunction with recovery activities throughout the species' range for the purpose of enhancing its survival and recovery.

Permit No. TE-058896

Applicant: Kris Gruwell, HDR Engineering, Inc., Salt Lake City, Utah

The applicant requests a permit amendment to add surveys for Mexican spotted owl (Strix occidentalis lucida) and black-footed ferrets (Mustela nigripes) to their permit in conjunction with recovery activities throughout the species' range for the purpose of enhancing their survival and recovery.

Permit No. TE-127250

Applicant: Bowdoin National Wildlife Refuge, U.S. Fish and Wildlife Service, Malta, Montana

The applicant requests a permit to take Interior least terns (Sterna antillarum athalassos) and piping plovers (Charadrius melodus) in conjunction with recovery activities throughout the species' range for the purpose of enhancing their survival and recovery.

Dated: May 24, 2006.
James J. Slack,
Deputy Regional Director, Denver, Colorado.

[FR Doc. E6-9168 Filed 6-12-06; 8:45 am]

BILLING CODE 4310-55-P